ENVIRONMENTAL PROTECTION AGENCY

[FRL-7862-6]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1463.06; National Oil and Hazardous Substances Pollution Contingency Plan (NCP); was approved 01/04/2005; in 40 CFR part 300; OMB Number 2050-0096; expires 01/31/2008.

EPA ICR No. 1826.03; Transition Program for Equipment Manufacturers; was approved 01/03/2005; in 40 CFR part 89.102; OMB Number 2060-0369; expires 01/31/2008.

EPA ICR No. 0155.08; Certification of Pesticide Applicators; in 40 CFR part 171; was approved 12/29/2004; OMB Number 2070-0029; expires 12/31/2007.

EPA ICR No. 1808.04; Environmental Impact Assessment of Nongovernmental Activities in Antarctica; in 40 CFR part 8; was approved 12/20/2004; OMB Number 2020-0007; expires 12/31/2007.

EPA ICR No. 2174.01; Sodium Cyanide (and Related Compounds) Investigation; was approved 12/21/2004; OMB No. 2070-0168; expires 06/30/2005.

EPA ICR No. 0574.12; Pre-Manufacture Review Reporting and Exemption Requirements for New Chemical Substances and Significant New Use Reporting Requirements for Chemical Substances; in 40 CFR part 720, 721, 723 and 725; was approved 12/22/2004; OMB Number 2070-0012; expires 12/31/2007.

EPA ICR No. 0143.08; Recordkeeping Requirements for Producers of Pesticides under Section 8 of the Federal Insecticide, Fungicide, and Rodenticide Act (FIFRA); in 40 CFR part 169; was approved 12/22/2004; OMB Number 2070-0028; expires 12/31/2007.

EPA ICR No. 2130.02; Transportation Conformity Determinations for Federally Funded and Approved Transportation Plans, Programs and Projects under the New 8-hour Ozone and PM2.5 NAAQS (Final Rule); in 40 CFR 93, subpart A; was approved 12/22/2004; OMB Number 2060-0561; expires 12/31/2007.

EPA ICR No. 1596.06; Significant New Alternatives Policy (SNAP); in 40 CFR part 82, subpart G; was approved 12/22/2004; OMB Number 2060-0226; expires 12/31/2007.

EPA ICR No. 2078.01; Energy Star Product Labeling; was approved 12/27/2004; OMB Number 2060-0528; expires 12/31/2007.

EPA ICR No. 1086.07; NSPS for Onshore Natural Gas Processing Plants; in 40 CFR part 60 subparts KKK and LLL; was approved 12/27/2004; OMB number 2060-0120; expires 12/31/2007.

EPA ICR No. 2147.02; Pesticide Registration Fee Waivers; was approved 12/29/2004; OMB Number 2070-0167; expires 12/31/2007.

Short Term Extensions

EPA ICR No. 0619.08; Mobile Source Emission Factor Recruitment Questionnaire; OMB Number 2060-0078 was approved; on 12/16/2004; OMB extended the expiration date to 03/31/2005.

Withdrawn

EPA ICR No. 0619.10; Mobile Source Emission Factor On-Highway Recruitment; OMB No. 2060-0078; on 12/16/2004 was withdrawn from OMB.

Dated: January 11, 2005.
Oscar Morales,
Director, Collection Strategies Division.

[FR Doc. 05-1120 Filed 1-19-05; 8:45 am]

BILLING CODE 6560-50-P